ENVIRONMENTAL PROTECTION AGENCY

40 CFR Part 300

[EPA-R04-SFUND-2007-0590; FRL-8451-3]

National Oil and Hazardous Substances Pollution Contingency Plan; National Priorities List

AGENCY: Environmental Protection Agency (EPA).

ACTION: Notice of intent to delete the Rochester Property Superfund Site from the National Priorities List.

SUMMARY: EPA Region 4 is issuing a notice of intent to delete the Rochester Property Superfund Site (Site) located in Travelers Rest, South Carolina, from the National Priorities List (NPL) and requests public comments on this notice of intent. The NPL, promulgated pursuant to section 105 of the Comprehensive Environmental Response, Compensation, and Liability Act (CERCLA) of 1980, as amended, is found at Appendix B of 40 CFR part 300 which is the National Oil and Hazardous Substances Pollution Contingency Plan (NCP). EPA and the State of South Carolina, through the South Carolina Department of Health and Environmental Control (SCDHEC), have determined that all appropriate response actions under CERCLA have been completed. However, this deletion does not preclude future actions under Superfund.

In the Final Rules section of this Federal Register, the EPA is approving the direct final notice of deletion of the Rochester Property Superfund Site without prior proposal because the Agency views this as a noncontroversial submittal and anticipates no adverse comments. A detailed rationale for the approval is set forth in the direct final notice. If no significant, material, and adverse comments are received in response to this notice, no further activity is contemplated. If EPA receives adverse comments, the direct final notice will be withdrawn and all public comments received will be addressed in a subsequent final notice based on this proposed notice. The EPA will not institute a second comment period on this document. Any parties interested in commenting on this document should do so at this time.

DATES: Comments concerning this Site must be received by September 10, 2007.

ADDRESSES: Submit your comments, identified by EPA-R04-SFUND-2007-0590 by one of the following methods:

1. http://www.regulations.gov: Follow the on-line instructions for submitting comments.

2. E-mail: webster.donna@epa.gov.

3. Fax: (404) 562-8788.

4. Mail: Donna Webster (EPA-R04-SFUND-2007-0590), Superfund Remedial & Site Evaluation Branch, Superfund Division, U.S. Environmental Protection Agency, Region 4, 61 Forsyth Street, SW., Atlanta, Georgia 30303-8960.

5. Hand Delivery or Courier: Donna K. Webster, Remedial Project Manager, Superfund Division, U.S. Environmental Protection Agency, Region 4, 61 Forsyth Street, SW., Atlanta, Georgia 30303-8960. Such deliveries are only accepted during the Regional Office's normal hours of operation. The Regional Office's official hours of business are Monday through Friday, 8:30 to 4:30, excluding Federal holidays.

Please see the direct final notice which is located in the Rules section of this Federal Register for detailed instructions on how to submit comments.

FOR FURTHER INFORMATION CONTACT: Donna K. Webster, Remedial Project Manager, Superfund Remedial & Site Evaluation Branch, Superfund Division, U.S. Environmental Protection Agency, Region 4, 61 Forsyth Street, SW., Atlanta, Georgia 30303-8960, Phone: (404) 562-8870, Electronic Mail: webster.donna@epa.gov.

SUPPLEMENTARY INFORMATION: For additional information see the direct final notice which is published in the Rules section of this Federal Register.

Information Repositories: Repositories have been established to provide detailed information concerning this decision at the following addresses:

1. Travelers Rest Library, 17 Center Street, Travelers Rest, SC 29690, Hours: Monday through Thursday—9 a.m. until 9 p.m., Friday and Saturday—9 a.m. until 6 p.m.; or,

2. U.S. EPA Record Center, Region IV Library, 61 Forsyth St. SW., Atlanta, GA 30303-8960, Hours: Monday thru Friday—8 a.m. until 4 p.m., by appointment only. Contact Ms. Debbie Jourdan, (404) 562-8862.

Dated: July 23, 2007.
J.I. Palmer, Jr.,
Regional Administrator, Region 4.

[FR Doc. E7-15331 Filed 8-8-07; 8:45 am]

BILLING CODE 6560-50-P